ENVIRONMENTAL PROTECTION AGENCY

40 CFR Part 761

[EPA-HQ-RCRA-2013-0396; FRL-9912-25-OSWER]

RIN 2050-AG79

Polychlorinated Biphenyls (PCBs): Manufacturing (Import) Exemption for the Defense Logistics Agency (DLA)

AGENCY: Environmental Protection Agency (EPA).

ACTION: Withdrawal of Direct final rule and Notice of Informal Hearing.

SUMMARY: On April 2, 2014, the U.S. Environmental Protection Agency (EPA or the agency) took direct final action on a petition submitted by the U.S. Defense Logistics Agency (DLA) to allow DLA to import foreign-manufactured polychlorinated biphenyls (PCBs) from Japan effective on July 1, 2014, unless EPA received adverse written comments or a request to hold an informal hearing. Because EPA received an adverse comment, as well as a request for an informal hearing, we are withdrawing the direct final rule titled, “Polychlorinated Biphenyls (PCBs): Manufacturing (Import) Exemption for the Defense Logistics Agency (DLA).” This notice also announces the time and location of that hearing.

DATES: Effective June 13, 2014, EPA withdraws the direct final rule published at 79 FR 18471 on April 2, 2014. The informal hearing will take place on Tuesday, July 8, 2014, from 9 a.m. to 1 p.m. All those wishing to provide oral comments at the hearing must send a written request to EPA. Requests must be received on or before July 1, 2014.

ADDRESSES: The hearing will be held at the EPA building at 2777 South Crystal Drive, Arlington, Virginia 22202. The hearing will be on the 4th floor in conference room North 4850/70.

Requests to Participate: A request to provide oral comments at the informal hearing must be received by the Hearing Clerk on or before July 1, 2014 by one of the following methods:

• Email: Requests may be sent by electronic mail to noggle.william@epa.gov.

• Fax: Requests may be faxed to (703) 308-0514, Attention: William Noggle; Docket ID No. EPA-HQ-RCRA-2013-0396.

• Mail: Requests may be sent to William Noggle, U.S. EPA, 1200 Pennsylvania Avenue NW., Washington, DC 20460, Mail Code 5304P, Attention: Docket ID No. EPA-HQ-RCRA-2013-0396. Note that mail sent to EPA is subject to significant delays due to security screening, so please plan for additional delivery time.

• Hand Delivery: Requests may be hand delivered to William Noggle, U.S. EPA, Office of Resource Conservation and Recovery, Two Potomac Yard, 2733 South Crystal Drive, 5th Floor, N5612, Arlington, VA 22202. Such deliveries are only accepted during the business hours from 9 a.m. to 5 p.m., Monday through Friday, excluding legal holidays. Please call William Noggle at 703-347-8769 prior to delivery.

Instructions: Please see http://www.epa.gov/epawaste/hazard/tsd/pcbs/dlapcb.htm for the type of information that must be included in the request to provide oral comments at the informal hearing, who may participate, as well as the procedures that EPA will follow in conducting the informal hearing. Please note that oral comments will be heard from those persons who have requested to participate in the hearing. Members of the public can attend without prior notification to the Hearing Clerk, but they will not be part of the hearing schedule to give presentations and/ or oral comments. However, attendees not on the hearing schedule may be permitted to speak if time allows. Also note that the advance participation requests will assist in planning for the hearing. Additionally, the time for individual presentations may be limited, depending on the number of requests received.

Individuals requiring special accommodation at this hearing, including wheelchair access or hearing impaired accommodations, should contact the Hearing Clerk by email, noggle.william@epa.gov, or telephone, (703) 347-8769, at least five (5) business days prior to the hearing so that appropriate arrangements can be made.

Docket: All documents in the docket are listed in the www.regulations.gov index. Although listed in the index, some information is not publicly available, e.g., confidential business information (CBI) or other information whose disclosure is restricted by statute. Certain other material, such as copyrighted material, will be publicly available only in hard copy. Publicly available docket materials are available either electronically in www.regulations.gov or in hard copy at the RCRA Docket, EPA/DC, WJC West, Room 3334, 1301 Constitution Ave. NW., Washington, DC. The Public Reading Room is open from 8:30 a.m. to 4:30 p.m., Monday through Friday, excluding legal holidays. The telephone number for the Public Reading Room is (202) 566-1744, and the telephone number for the RCRA Docket is (202) 566-0270.

FOR FURTHER INFORMATION CONTACT: William Noggle, U.S. Environmental Protection Agency, 1200 Pennsylvania Avenue NW., Washington, DC 20460, Mail Code 5304P; at (703) 347-8769 or noggle.william@epa.gov.

SUPPLEMENTARY INFORMATION: On April 23, 2013, EPA received a petition from the U.S. Defense Logistics Agency (DLA), a component of the United States Department of Defense (DoD), to import foreign-manufactured PCBs that DoD currently owns in Japan for disposal in the United States. In response to that petition, on April 2, 2014, EPA issued a direct final rule (79 FR 18471) and parallel proposed rule (79 FR 18497), to grant the request and provided a 30-day public comment period. During the comment period, EPA received an adverse comment as well as a request to hold an informal hearing.

Withdrawal of Direct Final Rule: Because EPA received adverse comment, as well as a request to hold an informal hearing, we are withdrawing the direct final rule. We stated in the direct final rule that if we received adverse comment on the proposed rule by May 2, 2014, the direct final rule would not take effect and we would publish a timely withdrawal in the Federal Register. We subsequently received adverse comment on that direct final rule, which will be considered as part of the parallel proposed rule.

Notice of Informal Hearing: EPA is granting a request from a member of the public to hold an informal hearing to receive oral comments on the proposed regulation. The procedures for rulemaking under section 6 of the Toxic Substances Control Act (TSCA) are found at 40 CFR part 750. Specific procedures for manufacturing (import) exemptions are identified in 40 CFR part 750, subpart B, and the procedures for participation in and the conduct of informal hearings are found at 40 CFR 750.18-750.20. Please see EPA's Web site at http://www.epa.gov/epawaste/hazard/tsd/pcbs/dlapcb.htm for the specific procedures for the informal hearing and the most current information on the hearing timeline.

Please note that all dates for the hearing process are subject to change. Individuals interested in this hearing and rulemaking should check the Web site for the most current information.

List of Subjects in 40 CFR Part 761

Environmental protection, Hazardous substances, Polychlorinated biphenyls.

Dated: June 6, 2014.
Mathy Stanislaus,
Assistant Administrator, Office of Solid Waste and Emergency Response.

Accordingly, EPA withdraws the amendment to 40 CFR 761.80(j), published in the Federal Register on April 2, 2014 (79 FR 18471), as of June 13, 2014.

[FR Doc. 2014-13856 Filed 6-12-14; 8:45 am]

BILLING CODE 6560-50-P